ENVIRONMENTAL PROTECTION AGENCY

40 CFR Part 52

[R04-OAR-2007-0532-200810(c); FRL-8579-6]

Approval and Promulgation of Implementation Plans; Alabama; Prevention of Significant Deterioration and Nonattainment New Source Review; Correction

AGENCY: Environmental Protection Agency (EPA).

ACTION: Final rule; correction.

SUMMARY: On May 1, 2008, EPA published a document approving revisions to the Alabama State Implementation Plan (SIP) concerning Alabama's Prevention of Significant Deterioration (PSD) program. That document included one paragraph containing an inadvertent error in its characterization of a portion of EPA's New Source Review (NSR) rules. This document corrects that inadvertent error.

DATES: This action is effective June 13, 2008.

FOR FURTHER INFORMATION CONTACT: For information regarding the Alabama State Implementation Plan, contact Ms. Stacy Harder, Regulatory Development Section, Air Planning Branch, Air, Pesticides and Toxics Management Division, U.S. Environmental Protection Agency, Region 4, 61 Forsyth Street, SW., Atlanta, Georgia 30303-8960. The telephone number is (404) 562-9042. Ms. Harder can also be reached via electronic mail at harder.stacy@epa.gov. For information regarding New Source Review, contact Ms. Gracy R. Danois, Air Permits Section, at the same address above. The telephone number is (404) 562-9119. Ms. Danois can also be reached via electronic mail at danois.gracy@epa.gov.

SUPPLEMENTARY INFORMATION: EPA is making a correction to the document published on May 1, 2008 (73 FR 23957), approving revisions to Alabama's SIP incorporating rule changes to Alabama's PSD program. As part of the background information provided in the May 1, 2008, document, EPA made an inadvertent misstatement on page 23958, column 1, first full paragraph. This paragraph begins with the phrase, “The ‘reasonable possibility’ standard identifies, for sources and reviewing authorities * * *” and ends with the phrase, “the reasonable possibility standard did not result in any actual changes to the corresponding federal rule.” 73 FR 23958. This last quoted statement does not correctly describe EPA's recent revisions to its NSR rules regarding the meaning of the term “reasonable possibility” in those rules. EPA's final action regarding “reasonable possibility” did result in changes to federal rules found at 40 CFR parts 51 and 52. See, 72 FR 72607, December 21, 2007.

EPA is now correcting the entirety of that first full paragraph at 73 FR 23958 by replacing it with the following paragraph:

“The `reasonable possibility' standard identifies, for sources and reviewing authorities, the circumstances under which a major stationary source undergoing a modification that does not trigger major NSR must keep records. EPA's December 2007 action clarified the meaning of the term `reasonable possibility' through changes to the federal rule language in 40 CFR parts 51 and 52. In the present case, although Alabama's rules include the term `reasonable possibility,' Alabama's rules require recordkeeping for facilities for which there is a reasonable possibility as well as those for which there is not. Therefore, Alabama's SIP revisions are approvable.”

Authority: 42 U.S.C. 7401 et seq.

Dated: June 4, 2008.
Russell L. Wright, Jr.,
Acting Regional Administrator, Region 4.

[FR Doc. E8-13348 Filed 6-12-08; 8:45 am]

BILLING CODE 6560-50-P